DEPARTMENT OF COMMERCE

National Oceanic and Atmospheric Administration

Initiation of the Public Scoping Process for the Preparation of a Seagrass Restoration Programmatic Environmental Impact Statement (PEIS) for the Florida Keys National Marine Sanctuary (FKNMS) and a Coral Reef Restoration PEIS for FKNMS and Flower Garden Banks National Marine Sanctuary (FGBNMS)

AGENCY: National Marine Sanctuaries Program (NMSP) and the Office of Response and Restoration (OR&R), National Ocean Service (NOS), National Oceanic and Atmospheric Administration, Department of Commerce (DOC).

ACTION: Notice of public scoping process.

SUMMARY: The National Marine Sancturaries Program (NMSP) and hte Office of Response and Restoration (OR&R) intend to prepare a Programmatic Environmental Impact Statement (PEIS) for the restoration of seagrass communities in the Florida Keys National Marine Sanctuary (FKNMS) as well as a PEIS for the restoration of coral reef communities in FKNMS and the Flower Garden Banks National Marine Sanctuary (FGBNMS). A Notice of Intent (NOI) for the Coral PEIS was previously published on February 17, 2000, but document preparation has been delayed until now. The PEISs will describe and address physical injury to, loss of, and destruction of these communities that result from anthropogenic activities, such as vessel groundings and anchoring within the National Marine Sanctuaries. The PEISs will also describe and characterize the different approaches and methodologies that may be implemented to restore, replace, or acquire the equivalent of such injured, destroyed, or lost resources. This notice is being published in the Federal Register to advise other agencies and the public of the intent to prepare PEISs, and to obtain suggestions and information on the scope of issues to include in the document.

DATES: Written comments from all interested parties must be received on or before April 15, 2003. Two scoping meetings were held on March 6, 2003, in Marathon, Florida. Local media and targeted electronic mail listings are being used to notify those interested in development of the PEISs. The Final PEISs are expected to be completed by March 2004.

ADDRESSES: Written comments and requests for information should be sent to Harriet Sopher, NOAA National Marine Sanctuaries Program, SSMC-4, 1305 East-West Highway, 11th Floor, Silver Spring, MD 20910, phone 301-713-3145 x109, harriet.sopher@noaa.gov.

Comments and materials received in response to this notice will be available for public inspection, by appointment, at the address above.

SUPPLEMENTARY INFORMATION: The National Marine Sanctuary System was established under the National Marine Sanctuaries Act (NMSA; previously known as title III of the Marine Protection, Research and Sanctuaries Act), 16 U.S.C. 1431 et seq. The NMSA authorizes the Secretary of Commerce to identify and designate certain areas of the marine environment which are of special national significance as National Marine Sanctuaries, and provides authority for comprehensive and coordinated conservation and management of these marine areas, and activities affecting them, in a manner that complements existing regulatory authorities. Further, section 312 of the NMSA (16 U.S.C. 1443) provides that any person who destroys, causes the loss of, or injures any Sanctuary resource is liable to the United States for response costs and damages. Monies received are used to reimburse the Secretary for response actions and damage assessments and to fund the restoration, replacement, or acquisition of the equivalent of injured, destroyed, or lost Sanctuary resources.

To help protect and manage the ecological, historical, educational, recreational, and aesthetic qualities of the National Marine Sanctuaries, the National Marine Sanctuaries Program (NMSP) and OR&R will prepare a seagrass restoration PEIS for Florida Keys National Marine Sanctuary (FKNMS) and a coral reef restoration PEIS for the FKNMS and Flower Garden Banks National Marine Sanctuary. The PEISs, among other objectives, will set forth methodologies and guidelines for restoration actions arising out of injuries to Sanctuary resources. It is NMSP's intent to prepare these PEISs such that a tiered process can be used in the preparation of future environmental documents concerning restoration actions within National Marine Sanctuaries. Accordingly, the PEISs will facilitate the development of both subsequent environmental assessments (EAs) and individual restoration plans designed to restore Sanctuary resources.

Public scoping meetings were held in Marathon, FL, on March 6, 2003. Extensive local media and notification through targeted electronic mail listings are being used prior to the preparation of the Draft PEISs for those persons, agencies, and/or organizations interested in contributing comments for the development of the Draft PEISs. Public meetings will also be held concurrent with the public comment period to accept comments on the Draft PEIS. Notice of these subsequent meetings will be published in the Federal Register. All substantive comments provided during the public comment period, both written and oral, will be considered in the preparation of the Final PEIS and will become part of the public record (i.e., names, addresses, letters of comment, comment provided during public meetings). Comments and suggestions are invited from all interested parties to ensure that the full range of issues related to this proposed action and all significant issues are identified. Comments and/or questions concerning the preparation of these PEISs should be directed to Harriet Sopher at the address or phone listed above.

The following draft outlines will form the basis for the scoping discussion.

Proposed draft outline for the Coral Reef Restoration PEIS:

1. Executive Summary

1. Overview

1.1.1 Introduction

1.1.2 Background

1.1.3 Purpose and need for action

1.1.4 Summary and scope of programmatic environmental impact statement

2. Restoration Alternatives

2.1 No Action

2.2 Physical Restoration

2.2.1 Debris, Sediment and Rubble Removal

2.2.2 Emergency Stabilization

2.2.3 Framework and Rubble Stabilization

2.2.3.1 Limestone boulders and tremie concrete

2.2.3.2 Preformed concrete/limestone units

2.2.3.3 In situ formation of semi-artificial substrate

2.2.3.4 Concrete pillows, geotextile mattresses, tubes filled with concrete

2.2.3.5 Gabions, prefabricated steel or tenser grid cages containing loose rubble

2.3.6 Revetment mats

2.3 Biological Restoration

2.3.1 Emergency Triage

2.3.2 Transplantation

2.3.3 Enhancement of Recruitment

2.3.4 Community Modification

2.4 Acquisition of Equivalent Natural Resources and Services

2.5 Criteria for Determining Environmentally Appropriate Alternative(s)

2.5.1 Recovery Time Horizons

2.5.2 Potential for Collateral Injury

2.5.3 Susceptibility to additional injury from natural disturbance events

2.5.4 Susceptibility to additional injury from human-caused disturbances

2.5.5 Technical feasibility

2.5.6 Likelihood of success

2.5.7 Significance of the injured resource

3. Affected Environment

3.1 Habitat Types

3.2 Florida Keys, Florida

3.2.1 Physical Environment

3.2.2 Biological Resources

3.2.3 Cultural Resources

3.2.4 Social and Economic Environment

3.2.5 Existing Jurisdictional Responsibilities and Institutional Arrangements

3.3 Flower Gardens and Stetson Bank, Gulf of Mexico

3.3.1 Physical Environment

3.3.2 Biological Resources

3.3.3 Cultural Resources

3.3.4 Social and Economic Environment

3.3.5 Existing Jurisdictional Responsibilities and Institutional Arrangements

4. Environmental Consequences

4.1 Environmental Impacts

4.2 Cumulative Effects

4.3 Mitigation Measures

Proposed draft outline for the Seagrass Restoration PEIS:

1. Purpose of and Need for Action

1.1 Purpose

1.2 Need for Proposed Action

2. Seagrass Restoration Alternatives

2.1 Seagrass Restoration Selection Alternatives

2.2 Seagrass Restoration Options

2.2.1 No-Action

2.2.2 Seagrass Transplants

2.2.3 Bird Stakes

2.2.4 Fertilizer Spikes

2.2.5 Sediment Fill

2.2.6 Sediment Tubes

2.2.7 Berm Redistribution

2.2.8 Channel Markers

2.3 Proposed Actions

3. Affected Environment

3.1 Location and Area Uses

3.2 Surrounding Land Use

3.3 Climate

3.4 Air Quality

3.5 Noise

3.6 Geology

3.7 Water Quality

3.8 Physical Parameters

3.9 Biological Resources

3.10 Cultural Resources

3.11 Hazardous and Toxic Substances

3.12 Socioeconomics

3.13 Quality of Life

4. Environmental and Socioeconomic Consequences

4.1 Introduction

4.2 No Action Alternative

4.3 Seagrass Transplant Alternative

4.4 Bird Stakes Alternative

4.5 Fertilizer Spikes

4.6 Sediment Fill Alternative

4.7 Sediment Tubes

4.8 Berm Redistribution Alternative

4.9 Channel Markers

4.10 Cumulative Effects

4.11 Mitigation Measures

4.12 Conclusions

5. Implementation of the Regional Restoration Plan

6. Relationship to Other Laws and Programs

Dated: March 3, 2003.
Jamison S. Hawkins,
Acting Assistant Administrator for Ocean Services and Coastal Zone Management.

[FR Doc. 03-6878 Filed 3-21-03; 8:45 am]

BILLING CODE 3510-08-M